DEPARTMENT OF HEALTH AND HUMAN SERVICES

Administration for Children and Families

Submission for Office of Management and Budget for Review and Approval; “State SNAP Agency NDNH Matching Program Performance Report” (Office of Management Budget #: 0970-0464)

AGENCY: Office of Child Support Services, Administration for Children and Families, U.S. Department of Health and Human Services.

ACTION: Request for public comments.

SUMMARY: OCSS is requesting the Office of Management and Budget (OMB) to approve the “State SNAP Agency NDNH Matching Program Performance Report,” with minor revisions, for an additional three years. State agencies administering their Supplemental Nutrition Assistance Program (SNAP) provide the annual performance report to OCSS in accordance with the computer matching agreement between state SNAP agencies and OCSS. The current OMB approval expires on February 28, 2025.

DATES: Comments due January 8, 2025. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: State agencies administering SNAP are mandated to participate in a computer matching program with OCSS. The matching program compares SNAP applicant and recipient information with employment and wage information maintained in the National Directory of New Hires (NDNH). The outcomes of the compared information help State SNAP agencies verify an individual's identity and determine a benefit eligibility. To receive NDNH information, state agencies enter into a computer matching agreement and adhere to its terms and conditions, including providing OCSS with annual performance outcomes attributable to the use of NDNH information. To fulfill OMB requirements, OCSS periodically reports performance measurements demonstrating how the use of information in the NDNH supports the OCSS strategic mission, goals, and objectives. These periodic reports include information derived from state SNAP agency annual NDNH performance reports. OCSS provides states with required performance report template and instructions, which OCSS revised to update the submission contacts and formatting, improve grammar, and to change “Office of Child Support Enforcement (OCSE)” to “Office of Child Support Services (OCSS).”

Respondents: State SNAP Agencies.

Annual Burden Estimates
Information collection instrument | Total number of respondents | Annual number of responses per respondent | Average burden hours per response | Total annual burden hours
SNAP Agency Performance Reporting Tool and Instructions | 53 | 1 | 0.83 | 43.99

Authority: 42 U.S.C. 653(j)(10); 5 U.S.C. 552a; and Pub. L. 111-352.

Mary C. Jones,
ACF/OPRE Certifying Officer.

[FR Doc. 2024-28760 Filed 12-6-24; 8:45 am]

BILLING CODE 4184-41-P